DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground: Modified
Town of Salisbury, Massachusetts FEMA Docket No.: B-1000
Massachusetts | Town of Salisbury | Atlantic Ocean | Along Atlantic Avenue south of Vermont St. to Railroad Ave | +14
|  |  | Along Atlantic Avenue approximately 500′ south of Railroad Ave | +15
* National Geodetic Vertical Datum.
+ North American Vertical Datum.
# Depth in feet above ground.
ADDRESSES
Town of Salisbury
Maps are available for inspection at 5 Beach Road, Town of Salisbury, MA 01950.

Flooding source(s) | Location of referenced elevation | * Elevation in feet (NGVD) + Elevation in feet (NAVD) # Depth in feet above ground: Modified | Communities affected
Bannock County, Idaho, and Incorporated Areas FEMA Docket No.: B-7781
Rapid Creek | Just upstream of Interstate Highway 15 | +4541 | Unincorporated Areas of Bannock County, City of Inkom.
| At Private Road approximately 400 feet downstream of Hoot Owl Road | +5060
* National Geodetic Vertical Datum.
+ North American Vertical Datum.
# Depth in feet above ground.
ADDRESSES
City of Inkom
Maps are available for inspection at 365 North Rapid Creek Road, Inkom, ID 83245.
Unincorporated Areas of Bannock County
Maps are available for inspection at 130 North 6th Avenue, Suite C, Pocatello, ID 83201.
Casey County, Kentucky, and Incorporated Areas FEMA Docket No.: B-7781
Green River | Approximately 4,300 feet downstream of confluence with Highway 49 Tributary | +793 | Unincorporated Areas of Casey County.
| Approximately 900 feet upstream of KY-817 | +808
* National Geodetic Vertical Datum.
+ North American Vertical Datum.
# Depth in feet above ground.
ADDRESSES
Unincorporated Areas of Casey County
Maps are available for inspection at 625 Campbellsville Street, Liberty, KY 42539.
Oxford County, Maine (All Jurisdictions) FEMA Docket No.: B-7756
Barkers Brook | Approximately 625 feet downstream of Cushing Road | +634 | Town of Bethel.
| Approximately 680 feet downstream of Gore Road | +662
Barkers Pond | At ponding area North of approximately 500 feet East of the intersection of Pine Cove Point and Narrow Gauge Trail and East of Narrow Gauge Trail | +497 | Town of Hiram.
Crooked River | Approximately 500 feet downstream of Jesse Mill Road | +333 | Town of Otisfield.
| Approximately 600 feet upstream of Harrison Road | +398
Hancock Brook | Approximately 600 feet downstream of Scribner Mill Road | +361 | Town of Hiram.
| Approximately 180 feet southeast of the intersection of Pine Cove Point and Narrow Gauge Trail | +494
Moose Pond | At ponding area North of approximately 600 feet upstream of the intersection of Evergreen Drive and Hemlock Road, East of Pine Drive and West of Fox Run Line | +524 | Town of Otisfield.
Saturday Pond | At ponding area approximately 875 feet northwest of Peaco Hill Road, West of Great Oaks Line and East of West Shore Drive | +533 | Town of Otisfield.
Stony Brook | Approximately 100 feet downstream of Buckfield Road | +479 | Town of Paris.
| Approximately 155 feet downstream of Christian Road | +577
Twitchell Brook | Approximately 700 feet East of the intersection of Buckfield Road and Emery Avenue | +395 | Town of Paris.
| Approximately 2,750 feet upstream of Hebron Road | +487
* National Geodetic Vertical Datum.
+ North American Vertical Datum.
# Depth in feet above ground.
ADDRESSES
Town of Bethel
Maps are available for inspection at Town Office, 19 Main Street, Bethel, ME 04217.
Town of Hiram
Maps are available for inspection at Town Office, 25 Allard Circle, Hiram, ME 04041.
Town of Otisfield
Maps are available for inspection at Town Office, 403 State Route 121, Otisfield, ME 04270.
Town of Paris
Maps are available for inspection at Town Office, 33 Market Square, South Paris, ME 04281.
Bristol County, Massachusetts (All Jurisdictions) FEMA Docket No.: B-7786
Buzzards Bay | Approximately 1,650 feet East of intersection of River Road and Redwing Lane | +24 | Town of Dartmouth, City of New Bedford, Town of Fairhaven, Town of Westport.
| Approximately 875 feet South from end of Club House Drive | +24
* National Geodetic Vertical Datum.
+ North American Vertical Datum.
# Depth in feet above ground.
ADDRESSES
Town of Dartmouth
Maps are available for inspection at Town Hall, 400 Slocum Road, Dartmouth, MA 02747.
Town of Fairhaven
Town Hall, 40 Center Street, Fairhaven, MA 02719.
City of New Bedford
City Hall, 133 William Street, New Bedford, MA 02740.
Town of Westport
Maps are available for inspection at Town Hall, 816 Main Road, Westport, MA 02790.
Caldwell County, North Carolina and Incorporated Areas Docket Nos.: FEMA-B-7748, FEMA-B-7749, FEMA-D-7672, and FEMA-B-7794
Abingdon Creek | Approximately 940 feet upstream of Huffman Road | +1,089 | Unincorporated Areas of Caldwell County.
| Approximately 325 feet upstream of M.W. Setzer Road | +1,098
Amos Creek | At the confluence with Mulberry Creek | +1,426 | Unincorporated Areas of Caldwell County.
| Approximately 1.4 miles upstream of the confluence with Mulberry Creek | +1,554
Angley Creek | Approximately 300 feet upstream of the confluence with Gunpowder Creek | +1,178 | City of Lenoir, Unincorporated Areas of Caldwell County, Town of Hudson.
| Approximately 600 feet upstream of Southeast Starcross Road | +1,252
Angley Creek Tributary 1 | At the confluence with Angley Creek | +1,200 | Unincorporated Areas of Caldwell County, City of Lenoir.
| Approximately 1,900 feet upstream of Southeast Starcross Road | +1,294
Anthony Creek | At the confluence with Prong Creek | +1,423 | Unincorporated Areas of Caldwell County.
| Approximately 1.4 miles upstream of the confluence with Prong Creek | +1,753
Beaver Creek | Approximately 400 feet downstream of the Caldwell/Wilkes County boundary | +1,184 | Unincorporated Areas of Caldwell County.
| Approximately 1.6 miles upstream of Wilkesboro Boulevard | +1,252
Billy Branch | At the confluence with Gunpowder Creek | +1,037 | Unincorporated Areas of Caldwell County, Town of Granite Falls.
| Approximately 0.6 mile upstream of North Highland Avenue | +1,161
Blairs Fork Creek | At the confluence with Lower Creek | +1,073 | City of Lenoir, Unincorporated Areas of Caldwell County.
| Approximately 750 feet upstream of Parson's Park Drive | +1,206
Blue Creek | At the confluence with Kings Creek 1 and Little Kings Creek | +1,102 | Unincorporated Areas of Caldwell County.
| Approximately 0.5 mile upstream of Bluegrass Place (State Road 1578) | +1,276
Boone Fork | At the confluence with Mulberry Creek | +1,219 | Unincorporated Areas of Caldwell County.
| Approximately 1.2 miles upstream of the confluence with Mulberry Creek | +1,315
Bristol Creek | Approximately 450 feet downstream of the Burke/Caldwell County boundary | +1,135 | Unincorporated Areas of Caldwell County.
| Approximately 100 feet downstream of the Burke/Caldwell County boundary | +1,144
Buffalo Creek | Approximately 1,500 feet upstream of the confluence with Yadkin River | +1,160 | Unincorporated Areas of Caldwell County.
| At the Caldwell/Watauga County boundary | +2,080
Camp Creek | At the confluence with Wilson Creek | +1,449 | Unincorporated Areas of Caldwell County.
| At the confluence of Harper Creek | +1,555
Catawba River | At the Alexander/Caldwell County boundary | +936 | Unincorporated Areas of Caldwell County, Town of Granite Falls, Town of Sawmills.
| Approximately 2,000 feet upstream of Burke/Caldwell County boundary | +1,005
Celia Creek | At the confluence with Husband Creek | +1,042 | Unincorporated Areas of Caldwell County.
| Approximately 1.0 mile upstream of Celia Creek Road (State Road 1327) | +1,168
Cold Water Creek | At the confluence with Johns River | +1,244 | Unincorporated Areas of Caldwell County.
| Approximately 1.7 miles upstream of the confluence with Johns River | +1,849
Craig Creek | At the confluence with Wilson Creek | +1,394 | Unincorporated Areas of Caldwell County.
| Approximately 1.9 miles upstream of the confluence with Wilson Creek | +1,770
Dennis Creek | At the confluence with Yadkin River | +1,883 | Unincorporated Areas of Caldwell County.
| Approximately 120 feet downstream of Richland Road (State Road 1372) | +2,013
Elk Branch | At the confluence with Jones Creek | +1,385 | Unincorporated Areas of Caldwell County.
| Approximately 1,290 feet upstream of Old Sampson Road (State Road 1574) | +1,450
Estes Mill Creek | At the confluence with Wilson Creek | +1,498 | Unincorporated Areas of Caldwell County.
| Approximately 1.2 miles upstream of the confluence with Wilson Creek | +1,656
Fiddle Creek | At the confluence with Mulberry Creek | +1,397 | Unincorporated Areas of Caldwell County.
| Approximately 1,600 feet upstream of the confluence with Mulberry Creek | +1,437
Franklin Branch | At the confluence with Johns River | +1,108 | Unincorporated Areas of Caldwell County.
| Approximately 1,500 feet upstream of the confluence of Franklin Branch Tributary 1 | +1,222
Franklin Branch Tributary 1 | At the confluence with Franklin Branch | +1,199 | Unincorporated Areas of Caldwell County.
| Approximately 1,540 feet upstream of the confluence with Franklin Branch | +1,229
Freemason Creek | Approximately 1.0 mile upstream of the confluence with Catawba River | +1,004 | Unincorporated Areas of Caldwell County, Town of Sawmills.
| Approximately 250 feet upstream of Stamey Road | +1,132
Freemason Creek Tributary 1 | At the confluence with Freemason Creek | +1,013 | Unincorporated Areas of Caldwell County, Town of Sawmills.
| Approximately 1.5 miles upstream of the confluence with Freemason Creek | +1,102
Freemason Creek Tributary 1A | At the confluence with Freemason Creek Tributary 1 | +1,023 | Unincorporated Areas of Caldwell County, Town of Sawmills.
| Approximately 1,700 feet upstream of Hickory Nut Ridge Road | +1,058
Freemason Creek Tributary 2 | At the confluence with Freemason Creek | +1,056 | Unincorporated Areas of Caldwell County, Town of Sawmills.
| Approximately 0.8 mile upstream of Horseshoe Bend Road | +1,128
Freemason Creek Tributary 2A | At the confluence with Freemason Creek Tributary 2 | +1,082 | Unincorporated Areas of Caldwell County, Town of Sawmills.
| Approximately 650 feet upstream of Lafayette Avenue | +1,163
Ginger Creek | At the confluence with Middle Little River | +1,388 | Unincorporated Areas of Caldwell County.
| Approximately 0.7 mile upstream of Draco Road | +1,459
Ginger Creek Tributary 1 | At the confluence with Ginger Creek | +1,401 | Unincorporated Areas of Caldwell County.
| Approximately 1.3 miles upstream of Scout Road (State Road 1728) | +1,731
Greasy Creek | At the confluence with Lower Creek | +1,062 | Unincorporated Areas of Caldwell County, City of Lenoir.
| Approximately 1,500 feet upstream of the confluence with Lower Creek | +1,066
Green Rock Branch | At the confluence with Buffalo Creek | +1,216 | Unincorporated Areas of Caldwell County.
| Approximately 1.5 miles upstream of Buffalo Cove Road (State Road 1504) | +1,436
Gunpowder Creek | At the confluence with Catawba River | +936 | City of Lenoir, Town of Hudson, Town of Granite Falls, Unincorporated Areas of Caldwell County.
| Approximately 700 feet upstream of Southeast Applegate Court | +1,321
Gunpowder Creek Tributary 1 | At the confluence with Gunpowder Creek | +1,073 | Unincorporated Areas of Caldwell County.
| Approximately 1.8 miles upstream of the confluence with Gunpowder Creek | +1,186
Gunpowder Creek Tributary 2 | At the confluence with Gunpowder Creek | +1,089 | Unincorporated Areas of Caldwell County.
| Approximately 50 feet downstream of Christie Road (State Road 1717) | +1,117
Gunpowder Creek Tributary 2A | At the confluence with Gunpowder Creek Tributary 2 | +1,090 | Unincorporated Areas of Caldwell County, Town of Hudson.
| Approximately 1,600 feet upstream of Christie Road | +1,123
Gunpowder Creek Tributary 3 | At the confluence with Gunpowder Creek | +1,107 | Unincorporated Areas of Caldwell County, Town of Hudson.
| Approximately 0.4 mile upstream of the confluence with Gunpowder Creek | +1,158
Gunpowder Creek Tributary 4 | Approximately 750 feet upstream of the confluence with Gunpowder Creek | +1,158 | Town of Hudson.
| Approximately 0.6 mile upstream of the confluence with Gunpowder Creek | +1,220
Gunpowder Creek Tributary 5 | Approximately 600 feet upstream of the confluence with Gunpowder Creek | +1,213 | City of Lenoir.
| Approximately 0.5 mile upstream of Hickory Boulevard | +1,280
Gunpowder Creek Tributary 6 | Approximately 700 feet upstream of the confluence with Gunpowder Creek | +1,242 | City of Lenoir.
| Approximately 1,750 feet upstream of the railroad | +1,298
Harper Creek | At the confluence with Camp Creek | +1,555 | Unincorporated Areas of Caldwell County.
| At the Avery/Caldwell County boundary | +1,801
Hayes Mill Creek | Approximately 1,500 feet upstream of the confluence with Catawba River | +1,003 | Unincorporated Areas of Caldwell County, Town of Granite Falls, Town of Sawmills.
| Approximately 700 feet upstream of the confluence of Hayes Mill Creek Tributary 2 | +1,120
Hayes Mill Creek Tributary 1 | At the confluence with Hayes Mill Creek | +1,055 | Unincorporated Areas of Caldwell County, Town of Sawmills.
| Approximately 1,700 feet upstream of the confluence with Hayes Mill Creek | +1,088
Hayes Mill Creek Tributary 2 | At the confluence with Hayes Mill Creek | +1,113 | Town of Sawmills.
| Approximately 1,900 feet upstream of the confluence with Hayes Mill Creek | +1,157
Husband Creek | Approximately 0.5 mile upstream of the confluence with Lower River | +1,031 | Unincorporated Areas of Caldwell County, Town of Gamewell.
| Approximately 1,900 feet upstream of Rocky Road (State Road 1143) | +1,202
Husband Creek Tributary 1 | At the confluence with Husband Creek | +1,066 | Unincorporated Areas of Caldwell County.
| Approximately 250 feet downstream of Fleming Chapel Church Road (State Road 1322) | +1,132
Husband Creek Tributary 2 | At the confluence with Husband Creek | +1,096 | Unincorporated Areas of Caldwell County.
| Approximately 750 feet upstream of Crooked Creek Way | +1,124
Jackson Camp Creek | At the confluence with Yadkin River | +1,757 | Unincorporated Areas of Caldwell County
| Approximately 1.0 mile upstream of Richland Road (State Road 1372) | +1,867
Jesse Fork | At the confluence with Buffalo Creek | +1,349 | Unincorporated Areas of Caldwell County.
| Approximately 0.8 mile upstream of Stone Mountain Road (State Road 1503) | +1,640
Jesse Fork Tributary 1 | At the confluence with Jesse Fork | +1,453 | Unincorporated Areas of Caldwell County.
| Approximately 340 feet upstream of Wallace Coffey Place | +1,502
Johns River | At the Burke/Caldwell County boundary | +1,053 | Unincorporated Areas of Caldwell County.
| Approximately 3.5 miles upstream of the confluence of Thunderhole Creek | +2,346
Jones Creek | At the confluence with Buffalo Creek | +1,347 | Unincorporated Areas of Caldwell County.
| Approximately 1.3 miles upstream of CC Camp Road (State Road 1574) | +2,072
Kings Creek 1 | At the confluence with Yadkin River | +1,097 | Unincorporated Areas of Caldwell County.
| At the confluence of Blue Creek and Little King Creek | +1,102
Kings Creek 2 | At the confluence with Blue Creek | +1,181 | Unincorporated Areas of Caldwell County.
| Approximately 1.9 miles upstream of the confluence of Kings Creek 2 Tributary 1 | +1,252
Kings Creek 2 Tributary 1 | At the confluence with Kings Creek 2 | +1,201 | Unincorporated Areas of Caldwell County.
| Approximately 1.2 miles upstream of Taylor Farm Road (State Road 1702) | +1,376
Laurel Creek | At the confluence with Wilson Creek | +1,627 | Unincorporated Areas of Caldwell County.
| Approximately 1.1 miles upstream of the confluence with Wilson Creek | +1,986
Laytown Creek | At the confluence with Yadkin River | +1,110 | Unincorporated Areas of Caldwell County.
| Approximately 1.8 miles upstream of Laytown Road (State Road 1507) | +1,633
Little Creek | At the confluence with Upper Little River | +1,177 | Unincorporated Areas of Caldwell County.
| Approximately 1.4 miles upstream of Cove Mountain Lane | +1,321
Little Gunpowder Creek (near City of Lenoir) | Approximately 700 feet upstream of Southwest Walt Arney Road | +1,218 | Town of Cajahs Mountain.
| Approximately 1,100 feet upstream of Connelly Springs Road | +1,268
Little Gunpowder Creek (near Town of Hudson) | At confluence with Gunpowder Creek | +1,046 | Unincorporated Areas of Caldwell County, Town of Cajahs Mountain, Town of Granite Falls, Town of Hudson, Town of Sawmills.
| Approximately 1.4 miles upstream of Little Gunpowder Creek Drive | +1,261
Little Gunpowder Creek Tributary 1 (near Town of Hudson) | At the confluence with Little Gunpowder Creek (near Town of Hudson) | +1,183 | Unincorporated Areas of Caldwell County, Town of Hudson
| Approximately 50 feet upstream of Madison MHP Drive | +1,249
Little Gunpowder Creek Tributary 2 (near Town of Hudson) | At the confluence with Little Gunpowder Creek (near Town of Hudson) | +1,194 | Unincorporated Areas of Caldwell County, Town of Hudson.
| Approximately 0.5 mile upstream of Chickadee Trail Place | +1,261
Little Kings Creek | At the confluence with Blue Creek and Kings Creek 1 | +1,102 | Unincorporated Areas of Caldwell County.
| Approximately 1,630 feet upstream of Zacks Fork Road (State Road 1511) | +1,334
Little Mulberry Creek 1 | Approximately 1,100 feet upstream of the confluence with Mulberry Creek | +1,131 | Unincorporated Areas of Caldwell County.
| Approximately 350 feet downstream of NC 90 | +1,225
Little Mulberry Creek 2 | At the confluence with Mulberry Creek | +1,148 | Unincorporated Areas of Caldwell County.
| Approximately 0.4 mile upstream of Shallow Creek Road (State Road 1350) | +1,234
Lost Cove Creek | At the confluence with Wilson Creek | +1,563 | Unincorporated Areas of Caldwell County.
| At Avery/Caldwell County boundary | +1,580
Lower Creek | At the Burke/Caldwell County boundary | +1,026 | Unincorporated Areas of Caldwell County, City of Lenoir, Town of Gamewell.
| Approximately 1,900 feet upstream of Cedar Rock Circle (State Road 1706) | +1,131
Lower Creek Tributary 1 | At the confluence with Lower Creek | +1,099 | Unincorporated Areas of Caldwell County, City of Lenoir.
| Approximately 0.7 mile upstream of Southeast Haigler Road | +1,536
McRory Creek | At the confluence with Upper Little River | +1,211 | Unincorporated Areas of Caldwell County.
| Approximately 0.6 mile upstream of McRary Creek Road (State Road 1721) | +1,285
Middle Little River | At the Alexander/Caldwell County boundary | +1,098 | Unincorporated Areas of Caldwell County.
| Approximately 0.5 mile upstream of Brush Mountain Road (State Road 1733) | +1,419
Middle Little River Tributary 3 | At the confluence with Middle Little River | +1,222 | Unincorporated Areas of Caldwell County.
| Approximately 1,500 feet upstream of U.S. 64/Taylorsville Road | +1,257
Middle Little River Tributary 4 | At the confluence with Middle Little River | +1,314 | Unincorporated Areas of Caldwell County.
| Approximately 1,000 feet upstream of Duck Creek Road (State Road 1730) | +1,360
Middle Little River Tributary 5 | At the confluence with Middle Little River | +1,316 | Unincorporated Areas of Caldwell County.
| Approximately 0.5 mile upstream of the confluence with Middle Little River | +1,362
Mill Creek | At the confluence with Upper Little River | +936 | Unincorporated Areas of Caldwell County.
| Approximately 1.0 mile upstream of Petra Mill Road (State Road 1740) | +1,053
Mill Creek (into Yadkin River) | At the confluence with Yadkin River | +1,154 | Unincorporated Areas of Caldwell County.
| Approximately 1.2 miles upstream of NC 268 Highway | +1,216
Morris Creek | At the confluence with Upper Little River | +1,132 | Unincorporated Areas of Caldwell County.
| Approximately 600 feet upstream of Sheriffs Road (State Road 1730) | +1,287
Mountain Run | At the confluence with Upper Little River | +1,185 | Unincorporated Areas of Caldwell County.
| Approximately 150 feet upstream of Fox Road | +1,321
Mulberry Creek | Approximately 500 feet upstream of the confluence of Little Mulberry Creek 1 | +1,131 | Unincorporated Areas of Caldwell County.
| Approximately 0.7 mile upstream of the confluence of Amos Creek | +1,514
Old Field Branch | At the confluence with Buffalo Creek | +1,379 | Unincorporated Areas of Caldwell County.
| Approximately 1.7 miles upstream of Cottrell Place | +1,548
Ooten Creek | At the confluence with Yadkin River | +1,940 | Unincorporated Areas of Caldwell County.
| Approximately 0.6 mile upstream of the confluence with Yadkin River | +2,122
Pilot Branch | At the confluence with Upper Little River | +1,145 | Unincorporated Areas of Caldwell County.
| Approximately 400 feet upstream of Burns Road (State Road 1749) | +1,206
Preston Creek | At the confluence with Yadkin River | +1,332 | Unincorporated Areas of Caldwell County.
| Approximately 650 feet upstream of Kirby Mountain Road (State Road 1370) | +1,548
Prong Creek | At the confluence with Johns River | +1,332 | Unincorporated Areas of Caldwell County.
| At the confluence of Racket Creek | +1,418
Racket Creek | At the confluence with Prong Creek | +1,418 | Unincorporated Areas of Caldwell County.
| Approximately 4.3 miles upstream of the confluence with Prong Creek | +2,284
Raider Camp Creek | At the confluence with Harper Creek and Camp Creek | +1,555 | Unincorporated Areas of Caldwell County.
| Approximately 1,800 feet upstream of the confluence with Harper Creek | +1,638
Rock Creek | At the confluence with Upper Little River | +1,018 | Unincorporated Areas of Caldwell County.
| Approximately 1,400 feet upstream of State Road 1002 | +1,146
Rockhouse Creek | At the confluence with Buffalo Creek | +1,670 | Unincorporated Areas of Caldwell County.
| Approximately 1.3 miles upstream of the confluence with Buffalo Creek | +1,900
Rush Branch | At the confluence with Mulberry Creek | +1,344 | Unincorporated Areas of Caldwell County.
| Approximately 0.9 mile upstream of the confluence with Mulberry Creek | +1,406
Silver Creek | At the confluence with Gunpowder Creek | +936 | Unincorporated Areas of Caldwell County, Town of Granite Falls.
| Approximately 0.6 mile upstream of Falls Avenue | +1,078
Spainhour Creek | At the confluence with Blairs Fork Creek | +1,121 | City of Lenoir.
| Approximately 1,800 feet upstream of Blowing Rock Boulevard | +1,176
Stratford Creek | At the confluence with Catawba River | +1,005 | Unincorporated Areas of Caldwell County.
| Approximately 0.7 mile upstream of Baton School Road (State Road 1139) | +1,110
Stratford Creek Tributary 1 | At the confluence with Stratford Creek | +1,023 | Unincorporated Areas of Caldwell County.
| Approximately 1,800 feet upstream of Baton School Road (State Road 1139) | +1,055
Thorps Creek | At the confluence with Wilson Creek | +1,498 | Unincorporated Areas of Caldwell County.
| Approximately 2,050 feet upstream of the confluence with Wilson Creek | +1,540
Thunderhole Creek | At the confluence with Johns River | +1,430 | Unincorporated Areas of Caldwell County.
| Approximately 0.4 mile upstream of the confluence of New Years Creek | +1,930
Upper Little River | At the confluence with Catawba River | +936 | Unincorporated Areas of Caldwell County.
| Approximately 0.7 mile upstream of Teaberry Lane | +1,294
Upper Little River Tributary 1 | At the confluence with Upper Little River | +985 | Unincorporated Areas of Caldwell County.
| Approximately 0.5 mile upstream of Charlie Little Road (State Road 1741) | +1,127
Walnut Bottom Creek | At the confluence with Johns River | +1,316 | Unincorporated Areas of Caldwell County.
| Approximately 0.6 mile upstream of the confluence with Johns River | +1,371
Warrior Creek | Approximately 300 feet upstream of the confluence with Yadkin River | +1,214 | Unincorporated Areas of Caldwell County.
| Approximately 210 feet upstream of Warrior Road (State Road 1346) | +1,251
Wilson Creek | Approximately 1.1 miles upstream of Adako Road (State Road 1337) | +1,106 | Unincorporated Areas of Caldwell County.
| Approximately 1,000 feet upstream of Avery/Caldwell County boundary | +1,681
Yadkin River | At the Caldwell/Wilkes County boundary | +1,090 | Unincorporated Areas of Caldwell County.
| Approximately 2.2 miles upstream of the confluence of Ooten Creek | +2,315
Yadkin River Tributary 25 | At the confluence with Yadkin River | +1,128 | Unincorporated Areas of Caldwell County.
| Approximately 1,730 feet downstream of Laytown Road (State Road 1507) | +1,284
Zacks Fork Branch | At the confluence with Zacks Fork Creek | +1,104 | City of Lenoir.
| Approximately 1,350 feet upstream of the confluence with Zacks Fork Creek | +1,105
Zacks Fork Creek | At the confluence with Lower Creek | +1,088 | City of Lenoir, Unincorporated Areas of Caldwell County.
| Approximately 800 feet downstream of Northeast Georgetown Road | +1,139
Zacks Fork Creek Tributary 1 | Approximately 400 feet upstream of the confluence with Zacks Fork Creek | +1,156 | Unincorporated Areas of Caldwell County, City of Lenoir.
| Approximately 1.2 miles upstream of the confluence with Zacks Fork Creek | +1,268
* National Geodetic Vertical Datum.
+ North American Vertical Datum.
# Depth in feet above ground.
City of Lenoir
Maps are available for inspection at Lenoir City Hall, 801 West Avenue Northwest, 3rd Floor, Lenoir, North Carolina.
Town of Cajahs Mountain
Maps are available for inspection at Cajahs Mountain Town Hall, 1800 Connelly Springs Road, Lenoir, North Carolina.
Town of Gamewell
Maps are available for inspection at the Gamewell Town Hall, 2750 Old Morganton Road, Lenoir, North Carolina.
Town of Granite Falls
Maps are available for inspection at Granite Falls Town Hall, 30 Park Square, Granite Falls, North Carolina.
Town of Hudson
Maps are available for inspection at Hudson Town Hall, 550 Central Street, Hudson, North Carolina.
Town of Sawmills
Maps are available for inspection at Sawmills Town Hall, 4076 U.S. Highway 321A, Sawmills, North Carolina.
Unincorporated Areas of Caldwell County
Maps are available for inspection at Caldwell County Courthouse, 1051 Harper Avenue, Lenoir, North Carolina.
Knox County, Ohio, and Incorporated Areas FEMA Docket No.: B-7790
Center Run | At East Gambier Rd | +979 | Unincorporated Areas of Knox County.
| Approximately 700 feet downstream of E Vine St | +981
Kokosing River | .55 miles upstream of Big Run Road | +944 | Village of Gambier.
| Approximately 360 feet upstream of Laymon Rd | +953
* National Geodetic Vertical Datum.
+ North American Vertical Datum.
# Depth in feet above ground.
ADDRESSES
Unincorporated Areas of Knox County
Maps are available for inspection at 117 East High Street, Mount Vernon, OH 43050.
Village of Gambier
Maps are available for inspection at 115 Meadow Lane, Gambier, OH 43022.

(Catalog of Federal Domestic Assistance No. 97.022, “Flood Insurance.”)

Dated: January 22, 2009.
Michael K. Buckley,
Acting Assistant Administrator, Mitigation Directorate, Department of Homeland Security, Federal Emergency Management Agency.

[FR Doc. E9-6664 Filed 3-24-09; 8:45 am]

BILLING CODE 9110-12-P